DEPARTMENT OF THE INTERIOR

National Park Service

National Register of Historic Places; Notification of Pending Nominations and Related Actions

Nominations for the following properties being considered for listing or related actions in the National Register were received by the National Park Service before June 14, 2008. Pursuant to § 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by July 16, 2008.

J. Paul Loether,
Chief, National Register of Historic Places/National Historic Landmarks Program.

ARKANSAS

Crittenden County

West Memphis Commercial Historic District, 700, 800, and 900 blocks of E. Broadway Ave., West Memphis, 08000704

Madison County

Huntsville Commercial Historic District, Roughly bounded by War Eagle, Hughes, Church, and Harris St., Huntsville, 08000705

Saline County

Benton Commercial Historic District, Portions of 100 and 200 blocks of N. Main, N. Market, N. East, W. South, and Sevier St., Benton, 08000706

COLORADO

Jefferson County

Crown Hill Burial Park, 7777 W. 29th Ave., Wheat Ridge, 08000708

Lincoln County

Hugo Municipal Pool, (New Deal Resources on Colorado's Eastern Plains MPS) Jct. of U.S. 287 and 6th Ave., Hugo, 08000692

Saguache County

First Baptist Church of Moffat, (Ornamental Concrete Block Buildings in Colorado MPS) 401 Lincoln Ave., Moffat, 08000710

Weld County

Greeley Downtown, Roughly bounded by 8th St., 8th Ave., 10th St., and 9th Ave., Greeley, 08000707

DISTRICT OF COLUMBIA

District of Columbia, First Baptist Church of Deanwood, 1008 45th St., NE., Washington, DC, 08000720

GEORGIA

Chatham County

Dutton—Waller Raised Tybee Cottage, 1416 7th Ave., Tybee Island, 08000711

Morgan—Ille Cottage, 703 2nd Ave., Tybee Island, 08000713

Grady County

Ebenezer African Methodist Episcopal Church and School, 232 Martin Ave., Whigham, 08000714

Ware County

Lott Cemetery, Butler St. between Tebeau and Pendleton St., Waycross, 08000712

MASSACHUSETTS

Suffolk County

Old Harbor Reservation Parkways, Metropolitan Park System of Greater Boston, (Metropolitan Park System of Greater Boston MPS) William J. Day Blvd., Columbia Rd. between Farragut Rd. and Kosciuszko Cir., Old Colony Ave. between Pacuska Ave., Boston, 08000693

MISSOURI

Clay County

Wyman School, 100 Dunbar St., Excelsior Springs, 08000695

Jackson County

Parade Park Maintenance Building, 1722 Woodland Ave., Kansas City, 08000719

Macon County

La Plata Square Historic District, Along portions of Gex, Sanders, and Moore St., La Plata, 08000696

NEW MEXICO

Santa Fe County

Las Acequias, (Buildings Designed by John Gaw Meem MPS) 22A Rancho Las Acequias, Santa Fe, 08000697

NEW YORK

Chenango County

Smyrna Town Hall—Opera House, Academy St., Smyrna, 08000699

Clinton County

SPITFIRE (gunboat), Address Restricted, Lake Champlain, 08000694

Dutchess County

Pulver—Bird House, 983 Hunns Lake Rd., Stanford, 08000700

Essex County

SPITFIRE (gunboat), Address Restricted, Lake Champlain, 08000694

Lewis County

General Walter Martin House, 6575 Main St., Martinsburg, 08000698

RHODE ISLAND

Kent County

Spencer, William B., House, (Single-Family Houses in Rhode Island MPS) 11 Fairview Ave., West Warwick, 08000716

Providence County

Sweet, Ira B., House, (Single-Family Houses in Rhode Island MPS) 38 Esmond St., Smithfield, 08000715

Taft, Moses, House, (Single-Family Houses in Rhode Island MPS) 111 E. Wallum Lake Rd., Burrillville, 08000718

Washington County

Rose, Benoni, House, (Single-Family Houses in Rhode Island MPS) 97 Lafayette Rd., North Kingstown, 08000717

TENNESSEE

Davidson County

Fire Hall No. 1, (Fire Halls of Nashville, Tennessee, 1860-1936) 1312 3rd Ave. N., Nashville, 08000691

Gibson County

First Methodist Episcopal Church, South, 200 N. 12th Ave., Humboldt, 08000702

McMinn County

First United Presbyterian Church, 321 N. Jackson St., Athens, 08000701

Robertson County

Nelson's Greenbrier Distillery, Main St. W. of Greenbrier Cemetery Rd., Greenbrier, 08000703

Request for REMOVAL has been made for the following resources:

COLORADO

Larimer County

Bear Lake Ranger Station, Bear Lake, Estes Park, 87001138

TENNESSEE

Knox County

Walker, Thomas J., House, 645 Mars Hill Rd., Knoxville, 98000279

Montgomery County

Home Infirmary, Riverside Dr. and Current St., Clarksville, 78002620

Rutherford County

Ridley's Landing N. of Smyrna on Jones Mill Rd. at Stoves River, Smyrna, 73001829

Request for RELOCATION has been made for the following resources:

KANSAS

Barnes County

Washington County Kingpost Bridge, SW. corner of jct. of KS 9 and Center St., Barnes, 89002184

Norton County

North Fork Solomon River Lattice Truss Bridge Prairie Golf Course, Norton, 03000366

[FR Doc. E8-14841 Filed 6-30-08; 8:45 am]

BILLING CODE 4310-70-P